DEPARTMENT OF HEALTH AND HUMAN SERVICES

Centers for Disease Control and Prevention

National Center for Chronic Disease Prevention and Health Promotion, Interagency Committee on Smoking and Health (ICSH)

In accordance with section 10(a)(2) of the Federal Advisory Committee Act (P.L. 92-463), the Centers for Disease Control and Prevention (CDC) announces the following meeting of the aforementioned committee.

Time and Date: 9:00 a.m.-4:30 p.m., EDT, August 23, 2016.

Place: U.S. Department of Health and Human Services, Hubert H. Humphrey Building, Room 800 located at 200 Independence Avenue SW., Washington, DC 20201. Telephone: (202) 245-0552. This meeting is also accessible by teleconference.

Login information for teleconference is as follows:

Toll Free Phone#: (800)988-0209.

Conference number: PW9322824.

Participant passcode: 5816979.

Participant URL: https://www.mymeetings.com/nc/join.php?i=PW9322824&p=5816979&t=c.

Status: Open to the public, limited only by the space and telephone lines available. The meeting room accommodates 100 people and there will be 50 telephone lines available.

Purpose: The committee advises the Secretary, Department of Health and Human Services, and the Assistant Secretary for Health in the (a) coordination of all research and education programs and other activities within the Department and with other federal, state, local and private agencies, and (b) establishment and maintenance of liaison with appropriate private entities, federal agencies, and state and local public health agencies with respect to smoking and health activities.

Matters for Discussion: The topic of the meeting is “Increasing Smoke-free and Tobacco-free Environments.” The objectives of the meeting are to assess the progress of expanding smoke-free and tobacco-free environments 10 years after the landmark 2006 Surgeon General's Report on the health consequences of exposure to secondhand smoke, and to identify specific federal actions that can be taken to further our progress.

Agenda items are subject to change as priorities dictate.

Contact Person for More Information: Substantive program information as well as summaries of the meeting and roster of committee members may be obtained from the internet at www.cdc.gov/tobacco or from Ms. Monica L. Swann, Management and Program Analyst, National Center for Chronic Disease Prevention and Health Promotion, CDC, 395 E. Street SW., Washington, DC 20024. Telephone: (202) 245-0552.

The Director, Management Analysis and Services Office, has been delegated the authority to sign Federal Register notices pertaining to announcements of meetings and other committee management activities, for both the Centers for Disease Control and Prevention and the Agency for Toxic Substances and Disease Registry.

Catherine Ramadei,
Acting Director, Management Analysis and Services Office Centers for Disease Control and Prevention.

[FR Doc. 2016-17799 Filed 7-27-16; 8:45 am]

BILLING CODE 4163-18-P